DEPARTMENT OF THE INTERIOR

Fish and Wildlife Service

Availability of a Draft Environmental Impact Statement and Receipt of an Application for an Incidental Take Permit for the Metro Air Park Project in the Natomas Basin, Sacramento County, California

AGENCY: Fish and Wildlife Service, Interior.

ACTION: Notice of Availability.

SUMMARY: The Metro Air Park Property Owners Association (Association) has applied to the Fish and Wildlife Service (Service) for an incidental take permit pursuant to section 10(a)(1)(B) of the Endangered Species Act of 1973, as amended (Act). The Association, a non-profit mutual benefit corporation, has applied on behalf of 138 individual property owners within the Metro Air Park 1,892-acre Special Planning Area who wish to pursue development of urban uses and rice farming on these lands. The development area is in the Natomas Basin, Sacramento County, California, with associated mitigation lands for Metro Air Park development within Sacramento and Sutter Counties, California. The proposed permit would authorize incidental take of three federally listed species. The proposed taking of these species would be incidental to the implementation of the Metro Air Park Habitat Conservation Plan (Plan), which provides for the development of the Metro Air Park industrial park project along with the continuation of rice farming activities. The proposed permit also would authorize future incidental take of 10 currently unlisted species, should any of them become listed under the Act during the life of the permit. The proposed permit duration is 50 years. The permit application, available for public review, includes the Plan which describes the proposed program and mitigation, and an accompanying Implementing Agreement.

The Service also announces the availability of a Draft Environmental Impact Statement for the incidental take permit application. All comments received, including names and addresses, will become part of the official administrative record and may be made available to the public.

Public Meeting: A public meeting wi]ll be held on January 8, 2001, from 7 p.m. to 9 p.m. at the County of Sacramento, Hearing Room 1, 700 H Street, Sacramento, California, 95814. For additional meeting information, contact Ms. Vicki Campbell, Chief, Conservation Planning Division at (916) 414-6600. Oral and written comments will be received at the meeting.

DATES: Written comments should be received on or before February 6, 2001.

ADDRESSES: Comments should be addressed to the Field Supervisor, Fish and Wildlife Service, Sacramento Fish and Wildlife Office, 2800 Cottage Way, W-2605, Sacramento, California 95825. Written comments may be sent by facsimile to (916) 414-6711.

FOR FURTHER INFORMATION CONTACT: Ms. Vicki Campbell, Chief, Conservation Planning Division, at the Sacramento Fish and Wildlife Office (see ADDRESSES); telephone: (916) 414-6600.

SUPPLEMENTARY INFORMATION:

Availability of Documents

Individuals wishing copies of the application, Draft Environmental Impact Statement, Plan, and Implementing Agreement should immediately contact the Service by telephone at (916) 414-6600 or by letter to the Sacramento Fish and Wildlife Office. Copies of the Draft Environmental Impact Statement, Plan, and Implementing Agreement also are available for public inspection, during regular business hours, at the Sacramento Fish and Wildlife Office; State Library, 914 Capitol Mall, Sacramento, CA; the State Library, 828 I Street, Sacramento, CA; and the State Library, 1620 W. El Camino Avenue, Sacramento, CA.

Background Information

Section 9 of the Act and Federal regulation prohibit the “take” of animal species listed as endangered or threatened. Take is defined under the Act as harass, harm, pursue, hunt, shoot, wound, kill, trap, capture or collect listed animal species, or attempt to engage in such conduct (16 U.S.C. 1538). However, under limited circumstances, the Service may issue permits to authorize “incidental take” of listed animal species. “Incidental take” is defined by the Act as take that is incidental to, and not the purpose of, carrying out of an otherwise lawful activity. Regulations governing permits for threatened species and endangered species, respectively, are at 50 CFR 17.32 and 50 CFR 17.22.

Background

The Association seeks a permit for take of the following federally listed species: the threatened giant garter snake (Thamnophis gigas), threatened Aleutian Canada goose (Branta canadensis leucopareia), and threatened valley elderberry longhorn beetle (Desmocerus californicus dimorphus). This take would be incidental to urban development of the Metro Air Park industrial park project and from rice farming activities within the 1,892-acre Special Planning Area and on 119 acres of lands outside the Special Planning Area in Sacramento County, California. The proposed permit would also authorize future incidental take of the currently unlisted Swainson's hawk (Buteo swainsoni), greater sandhill crane (Grus canadensis tubida), bank swallow (Riparia riparia), tricolored blackbird (Agelaius tricolor), northwestern pond turtle (Clemmys marmorata marmorata), white-faced ibis (Plegadis chihi), loggerhead shrike (Lanius ludovicianus), burrowing owl (Athene cunicularia), delta tule pea (Lathyrus jepsonii ssp. jepsonii), and Sanford's arrowhead (Sagittaria sanfordii) should any of these species become listed under the Act during the life of the permit. Collectively, the 13 listed and unlisted species are referred to as the “covered species” for the Association's Plan.

The Metro Air Park Special Planning Area comprises 1,892 acres within the Natomas Basin in Sacramento County, California. Agriculture is the dominant land use in the Natomas Basin and on the Metro Air Park site. The predominant crops are rice, corn, sugar beets, grain, tomatoes, and pasture. Natural and uncultivated vegetation types are interspersed throughout the agricultural areas of the Natomas Basin. Natural areas are found primarily along irrigation canals, drainage ditches, pastures, and uncultivated fields. The borders of drainage canals are often associated with narrow strips of emergent vegetation and/or wooded riparian areas.

Portions of the Natomas Basin that are within the jurisdiction of the City of Sacramento are included in the Natomas Basin Habitat Conservation Plan which was completed by the City of Sacramento in November, 1997. The Metro Air Park Project is described in the Natomas Basin Habitat Conservation Plan, but because the Metro Air Park Project is outside of the City limit lines, the project cannot be covered by the City's incidental take permit. Therefore, the Association is seeking a separate incidental take permit for the Metro Air Park project. Take could occur as a result of urban development of the Metro Air Park industrial park project and from rice farming activities.

Under the Plan, the Association proposes to minimize and mitigate the effects of urban development by participating in the basin-wide conservation program set up for the entire Natomas Basin which is described in the Natomas Basin Habitat Conservation Plan. The focus of this basin-wide conservation program is the preservation, enhancement, and restoration of ecological communities which support species associated with the wetland and upland habitats. Through the payment of development fees, one-half acre of mitigation land would be established for every acre of land developed within the Plan area. The mitigation land would be acquired and managed by the Natomas Basin Conservancy, a non-profit conservation organization established to implement the Natomas Basin Habitat Conservation Plan. Mitigation fee amounts and the mitigation strategy for the Plan would be subject to the same adjustments required under the Natomas Basin Habitat Conservation Plan. To mitigate for the loss of Swainson's hawk nest trees on-site, the Association will secure 200 contiguous acres, in perpetuity, and transfer the lands to the Natomas Basin Conservancy to manage them for the benefit of Swainson's hawk. The Plan also includes take avoidance and minimization measures that include the requirement for landowners to conduct pre-construction surveys for covered species and to carry out minimization measures prior to site development.

The Plan will be implemented by the Association with assistance from the County of Sacramento and environmental consultants. The Natomas Basin Conservancy will serve as the Plan Operator, receive mitigation fees from the County, and be responsible for using the fees to acquire and manage habitat lands in accordance with the Plan.

Funding for the Plan will be financed through a combination of development fees charged at the time grading permits are issued, Mello-Roos Community Facilities District bond proceeds, and Property Owners Assessments.

The Draft Environmental Impact Statement considers four alternatives, including the Proposed Action and the No-Action/No Take Alternative. Under the No-Action/No Take Alternative, no section 10(a)(1)(B) permit would be issued for take of listed species during urban development and other activities in the Plan area. Landowners within the Plan area would continue to apply for individual incidental take permits on a case-by-case basis.

The Increased Mitigation Ratio Alternative examines the environmental effects of applying a higher mitigation ratio for addressing impacts to the giant garter snake and the Swainson's hawk than is required under the Natomas Basin Habitat Conservation Plan and the proposed Plan. This alternative would require a site-specific analysis of habitat values in order to determine specific mitigation obligations.

The Reduced Development Alternative would result in reduced development of the Metro Air Park site. The 18-hole golf course situated on approximately 279 acres would be reduced to a 140-acre 9-hole golf course. This would reallocate 140 acres on-site for the creation of habitat as a mitigation area for covered species.

The analysis provided in the Draft Environmental Impact Statement is intended to accomplish the following: inform the public of the proposed action and alternatives; address public comments received during the scoping period; disclose the direct, indirect, and cumulative environmental effects of the proposed action and each of the alternatives; and indicate any irreversible commitment of resources that would result from implementation of the proposed action.

The Service invites the public to comment on the Plan and Draft Environmental Impact Statement during a 60-day public comment period. This notice is provided pursuant to section 10(a) of the Endangered Species Act and Service regulations for implementing the National Environmental Policy Act of 1969 (40 CFR 1506.6). The Service will evaluate the application, associated documents, and comments submitted thereon to prepare a Final Environmental Impact Statement. A permit decision will be made no sooner than 30 days after the publication of the Final Environmental Impact Statement.

Dated: November 28, 2000.
Elizabeth H. Stevens,
Deputy Manager, Region 1, California/Nevada Operations Office, Sacramento, California.

[FR Doc. 00-30837 Filed 12-4-00; 8:45 am]

BILLING CODE 4310-55-P